DEPARTMENT OF THE INTERIOR

National Park Service

[N6846; NPS-WASO-NAGPRA-NPS0041752; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), the Sonoma State University intends to repatriate certain cultural items that meet the definition of unassociated funerary objects, sacred objects, and/or objects of cultural patrimony and that have a cultural affiliation with the Indian Tribes or Native Hawaiian organizations in this notice.

DATES: Repatriation of the cultural items in this notice may occur on or after February 12, 2026.

ADDRESSES: Send additional, written requests for repatriation of the cultural items in this notice to Kirsten Twork, Sonoma State University, 1801 East Cotati Avenue, Rohnert Park, CA 94928, email tworkk@sonoma.edu.

SUPPLEMENTARY INFORMATION: This notice is published as part of the National Park Service's administrative responsibilities under NAGPRA. The determinations in this notice are the sole responsibility of the Sonoma State University, and additional information on the determinations in this notice, including the results of consultation, can be found in the summary or related records. The National Park Service is not responsible for the determinations in this notice.

Abstract of Information Available

A total of 355 lots of cultural items have been requested for repatriation from various sites from Humboldt and Mendocino counties. Of the cultural items, 297 lots are identified as sacred objects and the other 58 lots are identified as objects of cultural patrimony.

The 190 lots of sacred objects were removed from CA-HUM-405, located near Shelter Cove in Humboldt county California. The cultural items were removed during an archaeological test excavation led by the Humboldt County Planning Department. The items include modified chert stone tools, obsidian, ground stone tools, and soil. The cultural items have been housed at Sonoma State University since 1979.

The 61 lots of sacred objects were removed from CA-HUM-182, located near Shelter Cove in Humboldt county California. Additional information identifying why the material was removed from the site was not identified. The items include obsidian and shell. The cultural items have been housed at Sonoma State University since 1989.

The 46 lots of sacred objects were removed from CA-MEN-1674 and donated to the University by Jere Melo, located near Leggett in Mendocino county California. The items include modified obsidian, obsidian flakes, modified chert, and debitage. The cultural items have been housed at Sonoma State University since 1989.

The eight lots of objects of cultural patrimony were removed from their location during the Red Mountain Survey, located Humboldt county California. The items include modified chert stone tools. The cultural items have been housed at Sonoma State University since 1976.

The four lots of objects of cultural patrimony were removed from their location during the Brushy Mountain Survey, located Humboldt county California. The items include modified chert stone tools. The cultural items have been housed at Sonoma State University since 1976.

The five lots of objects of cultural patrimony were removed from CA-HUM-101, located near Humboldt Bay in Humboldt county California. The material was removed from the surface of the site during an archaeological survey. The items include modified chert stone tools and ground stone tools. The cultural items have been housed at Sonoma State University since 1976.

The 31 lots of objects of cultural patrimony were removed from CA-HUM-102, located near Humboldt Bay inHumboldt county California. The material was removed from the surface of the site during an archaeological survey. The items include modified chert stone tools, ground stone tools, and debitage. The cultural items have been housed at Sonoma State University since 1976.

The two lots of objects of cultural patrimony were removed from CA-HUM-316, located near Garberville in Humboldt county California. The material was removed from the site during the Moody Bridge Project. The items include modified chert stone tools. The cultural items have been housed at Sonoma State University since 1976.

The one lot of objects of cultural patrimony were removed from CA-HUM-317, located near Rohnerville in Humboldt county California. Additional information identifying why the material was removed from the site was not identified. The items include flaked chert. The cultural items have been housed at Sonoma State University since 1976.

The one lot of objects of cultural patrimony were removed from CA-HUM-319, located near Rohnerville in Humboldt county California. Additional information identifying why the material was removed from the site was not identified. The items include flaked chert. The cultural items have been housed at Sonoma State University since 1976.

The six lots of objects of cultural patrimony were removed from along the Van Dozen river near Bridgeville, Humboldt county California. The items were then donated to the University by Larry Weigel. The items include modified chert. The cultural items have been housed at Sonoma State University since 1984.

In the case of missing cultural items, any additional items when located will also be repatriated from the collections discussed above. Based on records concerning the sacred objects, objects of cultural patrimony, and the institution in which they are housed, there is no evidence of the cultural items being treated with hazardous substances.

Determinations

The Sonoma State University has determined that:

• The 297 sacred objects described in this notice are specific ceremonial objects needed by a traditional Native American religious leader for present-day adherents to practice traditional Native American religion, according to the Native American traditional knowledge of a lineal descendant, Indian Tribe, or Native Hawaiian organization.

• The 58 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Bear River Band of the Rohnerville Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 12, 2026. If competing requests for repatriation are received, the Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: January 5, 2026.
Melanie O'Brien,
Manager, National NAGPRA Program.

[FR Doc. 2026-00456 Filed 1-12-26; 8:45 am]

BILLING CODE 4312-52-P